DEPARTMENT OF HOMELAND SECURITY

Coast Guard

33 CFR Part 117

[CGD05-06-001]

RIN 1625-AA-09

Drawbridge Operation Regulations; Shark River, NJ

AGENCY: Coast Guard, DHS.

ACTION: Notice of temporary deviation from regulations.

SUMMARY: The Commander, Fifth Coast Guard District, has approved a temporary deviation from the regulations governing the operation of the W-43 (Ocean Avenue) Bridge, at mile 0.1, over Shark River Inlet at Monmouth County, New Jersey. To facilitate removal and replacement of the mechanical systems of the lift spans, the temporary deviation would allow partial openings of the drawbridge.

DATES: This deviation is effective from 7 a.m. on January 9, 2006, to 3 p.m. on February 19, 2006.

ADDRESSES: Materials referred to in this document are available for inspection or copying at Commander (obr), Fifth Coast Guard District, Federal Building, 1st Floor, 431 Crawford Street, Portsmouth, VA 23704-5004 between 8 a.m. and 4 p.m., Monday through Friday, except Federal holidays. The telephone number is (757) 398-6629. Commander (obr), Fifth Coast Guard District maintains the public docket for this temporary deviation.

FOR FURTHER INFORMATION CONTACT: Gary Heyer, Bridge Management Specialist, Fifth Coast Guard District, at (757) 398-6629.

SUPPLEMENTARY INFORMATION: The W-43 (Ocean Avenue) Bridge has a vertical clearance in the closed position of 15 feet at mean high water and 18 feet at mean low water.

The HNTB Corporation on behalf of Monmouth County, which owns and operates this double-leaf bascule drawbridge, has requested a temporary deviation from the general operating regulations set out in 33 CFR 117.5, to facilitate repairs.

During this temporary deviation, the repairs will require immobilizing half of the draw span. From 7 a.m. on January 9, 2006, until and including 3 p.m. on February 19, 2006, single-leaf openings will be provided on signal.

In accordance with 33 CFR 117.35(c), this work will be performed with all due speed in order to return the bridge to normal operation as soon as possible. This deviation from the operating regulations is authorized under 33 CFR 117.35.

Dated: January 6, 2006.
Waverly W. Gregory, Jr.,
Chief, Bridge Administration Branch, Fifth Coast Guard District.

[FR Doc. 06-331 Filed 1-12-06; 8:45 am]

BILLING CODE 4910-15-P